DEPARTMENT OF AGRICULTURE

Forest Service

Olympic Peninsula Resource Advisory Committee (RAC)

AGENCY: Forest Service, USDA.

ACTION: Notice of meeting.

SUMMARY: The Olympic Peninsula Resource Advisory Committee will hold its next meeting on May 13, 2004. The meeting will be held at Mason County's Public Utility Department auditorium at 307 West Cota Street, Shelton, Washington. The meeting will begin at 9:30 a.m. and end at approximately 3:30 p.m. The purpose of the meeting is to: Approve minutes of previous meeting; consider modifications to By-laws; review process for making nominations for RAC membership for fiscal years 2005-2007; review status of prior year Title III projects; review status of prior year Title II projects; present project proposals for FY 2005; select projects and priorities to recommend to Designated Federal Official for approval; and receive public comments.

DATE: The meeting will be held May 13, 2004 from 9:30 a.m. to 3:30 p.m.

ADDRESSES: The meeting will be held in Mason County's Public Utility Department auditorium at 307 West Cota Street, Shelton, Washington.

FOR FURTHER INFORMATION CONTACT: Ken Eldredge, RAC Liaison, USDA, Olympic National Forest Headquarters, 1835 Black Lake Blvd., Olympia, WA 98512-5623, (360) 956-2323 or Dale Hom, Forest Supervisor and Designated Federal Official, at (360) 956-2301.

SUPPLEMENTARY INFORMATION: All Resource Advisory Committee meetings are open to the public and interested citizens are encouraged to attend. Committee discussion is limited to committee members, Forest Service representatives and project sponsors. However, persons who wish to comment on meeting proceedings and project proposals will be given time during the public comment time. Individuals who would like time on the agenda must sign-in before the start of the meeting, stating they would like to comment. Comments must be brief, less than 5 minutes and to the point.

Dated: April 12, 2004.
Dale Hom,
Forest Supervisor, Olympic National Forest.

[FR Doc. 04-8642 Filed 4-15-04; 8:45 am]

BILLING CODE 3410-11-M